CONSUMER PRODUCT SAFETY COMMISSION

Sunshine Act; Meeting

Federal Register Citation of Previous Announcement: Vol. 67, No. 89, Wednesday, May 8, 2002, page 30879

Previously Announced Time and Date of Meeting: 10 a.m., Wednesday, May 15, 2002.

Changes in Meeting: The Prehearing Conference, In the Matter of DAISY MANUFACTURING COMPANY Inc., will not be held on Wednesday, May 15, 2002. The Prehearing Conference has been rescheduled for Friday, June 7, 2002 at 10 a.m.

For a recorded message containing the latest agenda information, call (301) 504-0709.

Contact Person for Additional Information: Todd A. Stevenson, Office of the Secretary, 4330 East West Highway, Bethesda, MD 20207 (301) 504-0800.

Dated: May 9, 2002.
Todd A. Stevenson,
Secretary.

[FR Doc. 02-12043 Filed 5-9-02; 3:15 am]

BILLING CODE 6355-01-M